ENVIRONMENTAL PROTECTION AGENCY

[FRL-7510-9]

Horseshoe Bend Dump Superfund Site; Notice of Proposed Settlement

AGENCY: Environmental Protection Agency.

ACTION: Notice of proposed settlement.

SUMMARY: Under section 122(h) of the Comprehensive Environmental Response, Compensation and Liability Act (CERCLA), the Environmental Protection Agency (EPA) has offered a settlement at the Horseshoe Bend Dump Superfund Site in Lawrenceburg, Lawrence County, Tennessee under a CERCLA 122(h) Agreement for recovery of Response Costs to settle claims for past costs at the Site. The two (2) parties to the agreement have returned signature pages accepting EPA's settlement offer. EPA will consider public comments on the proposed settlement until July 11, 2003. EPA may withdraw from or modify the proposed settlement should such comments disclose facts or considerations which indicate the proposed settlement is inappropriate, improper or inadequate. Copies of the proposed settlement are available from: Ms. Paula V. Batchelor, U.S. Environmental Protection Agency, Region 4, CERCLA Program Services Branch, 61 Forsyth Street, SW., Atlanta, Georgia 30303, (404) 562-8887.

Written Comments made be submitted to Ms. Paula V. Batchelor at the above address within 30 days of the date of publication.

Dated: May 21, 2003.
Archie Lee,
Chief, CERCLA Program Services Branch, Waste Management Division.

[FR Doc. 03-14747 Filed 6-10-03; 8:45 am]

BILLING CODE 6560-50-P